Proclamation 9029 of September 30, 2013

National Cybersecurity Awareness Month, 2013

By the President of the United States of America

A Proclamation

In an increasingly interconnected world, many Americans rely on the Internet and digital tools every day—from communicating with colleagues, friends, and family across the globe to banking and shopping without leaving our homes. Technology is reshaping every aspect of our lives, and protecting our digital infrastructure from cyber threats is one of our highest security priorities. This month, we expand public awareness about cybersecurity, and we recommit to enhancing the security and resilience of our Nation's infrastructure while maintaining an environment that encourages efficiency and innovation.

Incredible advances in technology also bring increased risk of disruptive cyber incidents. My Administration is dedicated to building a system of protections in both the private and public sectors to keep out malicious forces while preserving the openness and extraordinary power of the Internet. Our national and economic security depend on a reliable digital infrastructure in the face of threats, which is why earlier this year, I signed an Executive Order and issued a Presidential Policy Directive to strengthen this critical infrastructure. In tandem, these actions will enable us to develop and implement a framework of best practices for cybersecurity, increase information sharing between the Federal Government and industry partners, and build collaborative partnerships.

All of us have a role to play in safeguarding the networks we use in our daily lives. Understanding the risks associated with being online can help secure personal information and prevent identity theft and fraud. The Department of Homeland Security's “Stop.Think.Connect.” campaign empowers digital citizens with the tools to make smart decisions as they navigate cyberspace. For more information on computing practices, visit www.DHS.gov/StopThinkConnect.

Our digital infrastructure is a strategic national asset, and my Administration is committed to strengthening this vital resource. As we mark the 10th anniversary of Cybersecurity Awareness Month, let us welcome the great possibilities cyberspace provides and continue to invest in the security measures and innovation that will enable us to safely and fully realize those possibilities.

NOW, THEREFORE, I, BARACK OBAMA, President of the United States of America, by virtue of the authority vested in me by the Constitution and the laws of the United States, do hereby proclaim October 2013 as National Cybersecurity Awareness Month. I call upon the people of the United States to recognize the importance of cybersecurity and to observe this month with activities, events, and training that will enhance our national security and resilience.

IN WITNESS WHEREOF, I have hereunto set my hand this thirtieth day of September, in the year of our Lord two thousand thirteen, and of the Independence of the United States of America the two hundred and thirty-eighth.

[FR Doc. 2013-24383

Filed 10-3-13; 8:45 am]

Billing code 3295-F4